ENVIRONMENTAL PROTECTION AGENCY

40 CFR Part 62

[Docket No. ID-03-0001; FRL-6583-7]

Approval and Promulgation of State Plans for Designated Facilities and Pollutants: Oregon; Negative Declaration

AGENCY: Environmental Protection Agency (EPA).

ACTION: Proposed rule.

SUMMARY: The EPA proposes to approve the Clean Air Act (CAA), Sections 111(d) and 129 negative declaration submitted by the Oregon Department of Environmental Quality on October 20, 1998, and November 6, 1998. This negative declaration adequately certifies that there are no Hospital/Medical/Infectious Waste Incinerators (HMIWI) located within its boundaries.

In the final rules section of this Federal Register, the EPA is approving Oregon's negative declaration as a direct final rule without prior proposal because the Agency views this as a noncontroversial action and anticipates no relevant adverse comments. A detailed rationale for the approval is set forth in the direct final rule. If no relevant adverse comments are received in response to this action, EPA will not take action on this rule. If the EPA receives relevant adverse comments, EPA will withdraw the direct final rule and it will not take effect. EPA will then address all public comments received in a subsequent final rule based on this proposed rule. The EPA will not institute a second comment period on this action.

DATES: Written comments must be received by May 22, 2000.

ADDRESSES: Written comments should be addressed to: Catherine Woo, US EPA, Region X, Office of Air Quality (OAQ-107), 1200 Sixth Avenue, Seattle, WA 98101.

Copies of the State negative declaration are available for public review during normal business hours at the following locations. Persons wanting to examine these documents should make an appointment with the appropriate office at least 24 hours before the day of the visit.

Environmental Protection Agency, Region X, Office of Air Quality, 1200 Sixth Avenue, Seattle, WA 98101.

Oregon Department of Environmental Quality, 811 SW Sixth Avenue, Portland, OR 97204.

Contact Kathleen Craig at 503-229-6833, for an appointment at ODEQ.

FOR FURTHER INFORMATION CONTACT: Catherine Woo, Office of Air Quality (OAQ-107), US EPA, Region X, 1200 Sixth Avenue, Seattle, WA 98101, (206) 553-1814.

SUPPLEMENTARY INFORMATION: For additional information see the direct final action which is published in the Rules Section of this Federal Register.

Dated: April 4, 2000.
Chuck Clarke,
Regional Administrator, Region X.

[FR Doc. 00-10034 Filed 4-20-00; 8:45 am]

BILLING CODE 6560-50-P